NUCLEAR REGULATORY COMMISSION

[Docket No. 40-8943-MLA-2; ASLBP No. 13-926-01-MLA-BD01]

In the Matter of Crow Butte Resources, Inc. (Marsland Expansion Area); Amended Notice of Hearing (Correcting Facsimile Transmission Number in Notice of Evidentiary Hearing and Opportunity To Provide Oral, Written, and Audio-Recorded Limited Appearance Statements)

September 21, 2018.

Atomic Safety and Licensing Board Panel

Before the Licensing Board: G. Paul Bollwerk, III, Chairman, Dr. Richard E. Wardwell, Dr. Thomas J. Hirons

On July 27, 2018, the Atomic Safety and Licensing Board issued a Notice of Hearing, which was subsequently published in the Federal Register, indicating that it would convene an evidentiary hearing and conduct a 10 CFR 2.315(a) oral limited appearance session in connection with this proceeding regarding intervenor Oglala Sioux Tribe's challenge to the May 2012 application of Crow Butte Resources, Inc., (CBR) seeking to amend the existing 10 CFR part 40 source materials license for its Crow Butte in situ uranium recovery site to authorize CBR to operate a satellite ISR facility within the Marsland Expansion Area in Dawes County, Nebraska. See Notice of Hearing (Notice of Evidentiary Hearing and Opportunity To Provide Oral, Written, and Audio-Recorded Limited Appearance Statements); In the Matter of Crow Butte Resources, Inc. (Marsland Expansion Area), 83 FR 37828, 37828-30 (Aug. 2, 2018).

In the notice's section E, “Submitting a Request to Make an Oral Limited Appearance Statement,” and section F, “Submitting Written Limited Appearance Statements,” the Licensing Board provided a facsimile (fax) transmission number that could be used to submit to the Board a written request to make an oral limited appearance statement or a written limited appearance statement. Because the fax number for Administrative Judge G. Paul Bollwerk, III, subsequently changed, members of the public who wish to submit a request to make an oral limited appearance statement or to send a written limited appearance statement by fax should use the number (301) 415-5206. To verify a fax submission has been received, contact the Board's Law Clerk, Sarah Ladin, at (301) 415-5277.

It is so ordered.

For the Atomic Safety and Licensing Board.
Dated: Rockville, Maryland, September 21, 2018.
George P. Bollwerk III,
Chairman, Administrative Judge.

[FR Doc. 2018-21008 Filed 9-26-18; 8:45 am]

BILLING CODE 7590-01-P